MILITARY COMPENSATION AND RETIREMENT MODERNIZATION COMMISSION

Meeting of the Military Compensation and Retirement Modernization Commission

AGENCY: Military Compensation and Retirement Modernization Commission.

ACTION: Notice of town hall meeting.

SUMMARY: The Military Compensation and Retirement Modernization Commission (Commission) was established by National Defense Authorization Act, FY 2013. Pursuant to the Act, the Commission is holding a town hall meeting in Carlsbad, California, in the vicinity of Marine Corps Base Camp Pendleton, in order to solicit comments from the general public on the modernization of the military compensation and retirement systems.

DATES: The town hall meeting will be held Tuesday, March 25, 2014.

ADDRESSES: The town hall meeting will be held at the Sheraton Carlsbad Resort & Spa Conference Center, 5480 Grand Pacific Drive, Carlsbad, California 92008.

FOR FURTHER INFORMATION CONTACT: Christopher Nuneviller, Associate Director, Military Compensation and Retirement Modernization Commission, PO Box 13170, Arlington VA 22209, telephone 703-692-2080, fax 703-697-8330, email christopher.nuneviller@mcrmc.gov.

SUPPLEMENTARY INFORMATION: The Military Compensation and Retirement Modernization Commission (Commission) was established by the National Defense Authorization Act FY 2013, Pub. L. 112-239, § 671, (amended by National Defense Authorization Act FY 2014, Pub. L. 113-66, § 1095). The Commission conducting public hearings and town halls across the United States in order to solicit comments on the modernization of the military compensation and retirement systems. The Commission seeks the views of service members, retirees, their families and other interested parties regarding pay, retirement, health benefits and quality of life programs of the Uniformed Services. The Commission will hear from senior commanders of local military commands and their senior enlisted advisors, unit commanders and their family support groups, local medical and education community representatives, and other quality of life organizations. These meetings sites will be accessible to members of the general public including individuals with disabilities.

On the evening of Tuesday, March 25, 2014, the Chairman and Commissioners will hear from the public. Attendees will be given an opportunity to address the Chairman and Commissioners and relay to them their experience and comments.

March 25, 2014 Agenda

7:00 p.m. to 9:00 p.m. Town Hall Meeting.

Due to the deliberative, nascent and formative nature of the Commission's work, the Commissioners are unable to discuss their thoughts, plans or intentions for specific recommendations that will ultimately be made to the President and Congress.

The public hearings will be transcribed and placed on the Commission's Web site. In addition to public hearings, and due to the essential need for input from the beneficiaries, the Commission is accepting and strongly encourages comments and other submissions on its Web site (www.mcrmc.gov).

Christopher Nuneviller,
Associate Director, Administration and Operations.

[FR Doc. 2014-05602 Filed 3-13-14; 8:45 am]

BILLING CODE P